DEPARTMENT OF HEALTH AND HUMAN SERVICES

National Institutes of Health

National Eye Institute; Amended Notice of Meeting

Notice is hereby given of a change in the meeting of the National Advisory Eye Council, September 13, 2001, 8:30 a.m. to September 13, 2001, 5 p.m., 6130 Executive Boulevard, Executive Plaza North, Room H, Rockville, MD, 20852 which was published in the Federal Register on July 23, 2001, Vol. 66, Page 38295.

The meeting date has been changed to November 20, 2001. The location remains the same. The meeting is partially Closed to the public.

Dated: October 15, 2001.
LaVerne Y. Stringfield,
Director, Office of Federal Advisory Committee Policy.

[FR Doc. 01-26384 Filed 10-18-01; 8:45 am]

BILLING CODE 4140-01-M